COMMISSION ON CIVIL RIGHTS

Agenda and Notice of Public Meeting of the West Virginia Advisory Committee

Notice is hereby given, pursuant to the provisions of the rules and regulations of the U.S. Commission on Civil Rights that a meeting of the West Virginia Advisory Committee to the Commission will convene at 11:15 a.m. and adjourn at 3:15 p.m. on April 10, 2001, at the Governor's Conference Room (Office of the Secretary of State, Room 157), State Capitol Building, 1900 Kanawha Boulevard East, Charleston, West Virginia 25305. The Committee will hold a planning meeting to discuss the drafting of a report based on three community forums held between 1998 and 2000, coordinate information gathered from newly elected officials, and plan future projects.

Persons desiring additional information, or planning a presentation to the Committee, should contact Ki-Taek Chun, Director of the Eastern Regional Office, 202-376-7533 (TDD 202-376-8116). Hearing-impaired persons who will attend the meeting and require the services of a sign language interpreter should contact the Regional Office at least ten (10) working days before the scheduled date of the meeting.

The meeting will be conducted pursuant to the provisions of the rules and regulations of the Commission.

Dated at Washington, DC, February 26, 2001.
Edward A. Hailes, Jr.,
General Counsel.

[FR Doc. 01-5125 Filed 3-1-01; 8:45 am]

BILLING CODE 6335-01-P